DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 79 FR 32739-32740, dated June 7, 2014) is amended to reflect the reorganization of the Global Immunization Division within the Center for Global Health.

Section C-B, Organization and Functions, is hereby amended as follows:

Delete in its entirety the title and the mission and function statements for the Global Immunization Division (CWK) and insert the following:

Global Immunization Division (CWK). The Global Immunization Division (GID) protects the health of Americans and global citizens by preventing disease, disability, and death worldwide from vaccine-preventable diseases. In carrying out its mission, GID: (1) Provides national leadership and coordination of the Center for Global Health (CGH) efforts to eradicate polio; eliminate measles and rubella in World Health Organization (WHO) regions; strengthens global surveillance to prevent, detect, and respond to vaccine preventable diseases; strengthens routine immunization programs; introduces new and under-utilized vaccines; and promotes safe injection practices in collaboration with international organizations and CDC Centers/Institute/Offices (CIOs); (2) provides technical expertise to global partners—WHO, United Nations International Children's Emergency Fund (UNICEF), Global Alliance for Vaccine Immunization (GAVI), and the Bill and Melinda Gates Foundation (BMGF)—involved in global immunization activities and participates in international advisory group meetings on immunization issues; (3) ensures provision of technical expertise on evidence-based research, strategies, and policy at global and country levels in collaboration with multilateral and bilateral partners; (4) collaborates with other countries and administers grants to WHO, Pan American Health Organization (PAHO), UNICEF, and other international partners and advocacy groups as appropriate for the provision of technical, programmatic, and laboratory support, and vaccine procurement for initiatives to support global immunization targets; (5) improves surveillance for polio, measles, rubella, and other vaccine preventable diseases by working with individual countries and the WHO regional offices to improve surveillance and to collaborate with groups within and outside CDC to expand environmental surveillance; (6) achieves global immunization targets by supporting the strengthening of the implementation of national immunization policies; (7) strengthens appropriate vaccination policy development and implementation, identifies barriers to vaccine acceptance, and develops communication strategies to promote vaccine uptake and disease reduction; (8) develops strategies to improve the technical skills and problem-solving abilities of program managers and health care workers in other countries; (9) prepares immunization articles based on findings for publication in international professional journals and for presentation at international conferences; and (10) provides technical and operational leadership for CDC's activities in support of the initiatives.

Office of the Director (CWK1). (1) Provides leadership, management, and oversight for all division activities including administrative, budget, finance, research, workforce development, management and operations; (2) assists leadership in the formulation and defense of GID budget requests, and monitors and seeks strategies to mitigate division risks; (3) provides coordination and oversight of the division's personnel actions including liaison with CGH and CDC's human resource office; (4) provides oversight for workforce planning, recruitment, deployment, field staff support, professional development, and monitoring and evaluation; (5) develops and promotes partnerships with other organizations to support global immunization activities and works closely with partners in academia; (6) liaises and coordinates with other CDC offices engaged in global immunization activities; (7) provides leadership and oversight for scientific and programmatic activities related to the implementation of GID's objectives and ensures that the research and economic portfolios are integrated across the branches and with field activities; (8) identifies program policy priorities through strategic planning and other processes as appropriate; (9) clears all scientific publications from the division working in close collaboration with management of GID; (10) provides coordination of the division's communications activities including liaison with other CDC communications offices and those of our partner agencies; (11) represents CDC, CGH, and the division at global and national meetings and other fora for global immunization activities; (12) provides oversight for all Embassy/International Cooperative Administrative Supportive Services costs for the division's field staff; and (13) works in close collaboration and interfaces with CGH and other CIOs, global immunization partners, and other collaborating partners in matters relating to program development and research.

Polio Eradication Branch (CWKB). (1) Achieves global polio eradication in partnership with the Global Polio Eradication Initiative (GPEI) and optimize polio investments toward future health goals; (2) acts as CDC's lead for polio eradication activities in countries within Africa in partnership with GPEI; (3) works with polio free regions to strengthen their efforts to remain polio-free, particularly in the areas of surveillance, outbreak preparedness, containment and legacy planning; (4) improves surveillance for polio by working with individual countries, WHO regional offices, and groups within and outside CDC to expand environmental surveillance; (5) is prepared to respond quickly to outbreaks of wild poliovirus and circulating vaccine-derived polioviruses; (6) leads work in countries at high risk for polio; (7) leads activities to achieve poliovirus containment by the required deadlines; (8) oversees technical aspects of specific polio activities funded by CDC; (9) prepares countries for certification; (10) leads or collaborates in research to support polio eradication goals; (11) identifies opportunities to leverage polio eradication assets to promote sustainable improvements in routine immunization systems, in collaboration with the Immunization Systems Branch; (12) defines and ensures a sustainability legacy for the polio eradication program in addition to polio eradication itself and identifies opportunities to implement strategies toward this goal; (13) coordinates with key partners within and outside CDC; (14) promotes the National Stop Transmission of Polio (NSTOP)program; (15) develops priorities for CDC's involvement in polio eradication research and innovation activities; (16) collects and analyzes data on wild polio virus and vaccine perceived polio virus incidence, surveillance performance and immunization status based on acute flaccid paralysis surveillance and supplemental immunization activities implementation quality; (17) provides support to regional and country teams in assessing risk of outbreaks of wild poliovirus and circulating vaccine-derived polioviruses; responding to outbreaks; planning and implementing mitigating activities to prevent outbreaks; improving surveillance; and assisting in development of documentation to support certification and containment; and (18) supports the completion of global polio eradication through strengthening surveillance, innovation and research.

Accelerated Disease Control and Vaccine Preventable Diseases Surveillance Branch (CWKC). (1) Achieves accelerated disease control goals for vaccine preventable diseases (VPD), with a high focus on eliminating measles and rubella in WHO regions in partnership with the Measles and Rubella Initiative (MRI), and strengthening global surveillance to prevent, detect and respond to VPDs; (2) leads global and regional measles elimination goals; (3) provides expert technical input toward development, evaluation, and improvement of program activities and strategies to mitigate risk and achieve global and regional measles elimination goals; (4) monitors measles incidence and risk through development and analysis of high quality surveillance data and risk estimates, estimating burden of disease/death and verifying elimination; (5) develops and maintains outbreak preparedness and respond rapidly to outbreaks; (6) oversees the technical aspects of measles activities funded by CDC; (7) leads global and regional rubella control and elimination goals; (8) provides expert technical input to countries on the development and implementation of national plans of action for rubella vaccine introduction and the control and elimination of rubella and congenital rubella syndrome; (9) leads activities of the MRI, including participation on working groups, as appropriate; (10) strengthens labs and lab networks to ensure appropriate and timely specimen collection, testing, and result dissemination; (11) develops and maintains outbreak control strategies, including developing mathematical models to estimate the target age range for achieving program goals; (12) provides technical support to reach global or regional goals for control of targeted VPDs; (13) provides expert technical input towards development, evaluation, and improvement of program activities and strategies to mitigate risk and achieve global and regional VDP control goals; (14) monitors prevalence, incidence and risk through development and analysis of high quality surveillance data and risk estimates, estimating burden of disease/death and verifying elimination; (15) conducts research and evaluation to maximize the cost-effectiveness of elimination and outbreak control strategies; (16) oversees the technical aspects of targeted VPD activities funded by CDC; (17) provides ongoing support for development, implementation, quality, and use of VPD surveillance; (18) evaluates VPD surveillance systems and improves the quality, analysis, and use of surveillance data for program action and decision-making; (19) provides technical assistance in establishing and maintaining surveillance for diseases prevented by new or underutilized vaccines; (20) conducts research and evaluation to maximize surveillance performance and cost-effectiveness; and (21) leads innovative research and development to strengthen surveillance and improve laboratory diagnosis.

Immunization Systems Branch (CWKD). (1) Achieves global immunization targets by supporting the strengthening of the implementation of national immunization policies; identifies strategies to increase vaccine demand; promotes the appropriate introduction and use of quality vaccines; and strengthens routine immunization program delivery and equitable access to vaccines, while promoting synergies through the child health agenda; (2) leads development and implementation of effective communication strategies that address issues related to vaccine demand and uptake; (3) identifies caregiver, provider, and community determinants that affect vaccine demand, in order to develop evidence-based strategies to remove barriers and increase demand for immunization; (4) evaluates vaccine policy development, implementation, and impact, and advocates for policies demonstrated to support acceptance of vaccine; (5) accelerates progress toward achieving the millennium development goals of mortality reduction and disease prevention by advocating and promoting the appropriate and equitable introduction of new and underutilized vaccines; (6) builds evidence and rationale for vaccine introduction; (7) secures WHO-prequalification; (8) provides technical and programmatic assistance to countries to introduce new and underutilized vaccines into their national immunization programs; (9) evaluates effectiveness of introduction of new and underutilized vaccines in terms of uptake, impact on existing immunization program function, and potential impact on disease burden; (10) works with VPD Surveillance Team and CDC subject matter experts to build country capacity for future introduction of new and underutilized vaccines; (11) leads inactive polio virus introduction to immunization systems in oral polio virus using countries as mandated through the Immunization Management Group of the Global Polio Eradication Initiative; improves routine immunization systems globally (or improves access to and utilization of vaccines globally through strengthening of routine immunization systems); (12) develops, evaluates, and scales-up evidence-based strategies to tackle inequities in access to and delivery of vaccines; (13) develops evaluates, and scales-up comprehensive and coordinated approaches to integrate immunization services; (14) promotes innovation to improve routine immunization program efficiencies and increase coverage and impact; (15) conducts advocacy to national programs on the need to strengthen immunization system abilities to monitor, assess and respond to issues related to vaccine safety; and (16) conducts operational research to identify and test interventions to improve the access and utilization of immunization services and provide guidance on what areas are in need of workforce capacity building activities.

Strategic Information and Workforce Development Branch (CWKE). (1) Builds workforce, systems, and information capacity to effectively deliver immunization services in selected countries; (2) provides technical assistance and support, guidance, and advice on statistical analysis and study design, data management, and data integrity to the GID; (3) provides statistical expertise to support internal data management needs of the division and field staff (standard setting for record keeping, archiving, ensuring reproducibility of analyses); (4) collaborates with branch and team level leadership and GID management to ensure that statistical and methodological standards continue to remain an integral part of planning, conduct, and review of science and program within GID including with the context of the official clearance process; (5) provides GID statistical representation on internal and external committees and work groups and at relevant meetings, workshops, and fora; (6) promotes capacity building for polio, other VPDs and immunization functions in partnership with WHO and UNICEF through recruiting, coordinating training of, and deploying STOP teams; (7) promotes capacity building for polio, other VPDs and immunization functions in partnership with WHO and UNICEF; (8) leads the development of strong national immunization programs and systems through workforce capacity development; (9) ensures recruitment for training and WHO deployment for each STOP team; (10) creates and maintains strategic partnerships and collaborations and provides technical assistance to develop and evaluate sustainable programs aimed at increasing capacity and effectiveness of workforce responsible for implementing immunization programs; (11) conducts operational research to identify, implement and evaluate interventions aimed at improving immunization (or integrated public health) workforce effectiveness and contributes to the scientific knowledge base regarding interventions aimed at improving immunization workforce effectiveness; (12) leads strengthening routine immunization systems as mandated through the Immunization Management Group of the Global Polio Eradication Initiative; and (13) leads the development of strong immunization systems through improving quality, management, and use of immunization data and providing specific technical skills for program evaluation to include strategic information, informatics and information systems, program evaluation, polio eradication and endgame strategy, and operational research.

James D. Seligman,
Acting Chief Operating Officer, Centers for Disease Control and Prevention.

[FR Doc. 2015-00145 Filed 1-8-15; 8:45 am]

BILLING CODE 4160-18-P